DEPARTMENT OF COMMERCE

National Oceanic and Atmospheric Administration

Oceanic and Atmospheric Research (OAR) Assistant Administrator; Evaluation of NOAA's Response to the August 6, 2004 Research Review Report

AGENCY: The Office of Oceanic and Atmospheric Research (OAR), National Oceanic and Atmospheric Administration (NOAA), Department of Commerce.

ACTION: Notice and request for public comment.

SUMMARY: The Office of Oceanic and Atmospheric Research publishes this notice to announce the availability for public comment of the Science Advisory Board's (SAB) draft report on the evaluation of NOAA's response to the Research Review Report. “The Evaluation of NOAA's Response to the Research Review Report” can be found at: http://www.sab.NOAA.gov/reports/reports.html.

DATES: Comments on this draft document must be submitted by October 7, 2005.

ADDRESSES: The draft report on the evaluation of NOAA's response to the Science Advisory Board's Research Review Report will be available on the SAB Web site at http://www.sab.NOAA.gov/reports/reports.html on September 7, 2005.

The public is encouraged to submit comments electronically to research.review@noaa.gov For commenters who do not have access to a computer, comments may be submitted in writing to: NOAA Research, Science Advisory Board (SAB), c/o Ms. M. Whitcomb, Silver Spring Metro Center Bldg 3 Room 11419, 1315 East-West Highway, Silver Spring, Maryland 20910.

FOR FURTHER INFORMATION CONTACT: Ms. M. Whitcomb, Silver Spring Metro Center Bldg 3 Room 11419, 1315 East-West Highway, Silver Spring, Maryland 20910 (phone 301-713-2454 x173), during normal business hours of 8 a.m. to 5 p.m. eastern time, Monday through Friday, or visit the SAB Web site at: http://www.sab.NOAA.gov/reports/reports.html.

SUPPLEMENTARY INFORMATION: The Office of Oceanic and Atmospheric Research (OAR) publishes this notice to announce the availability of a draft report that evaluates NOAA's response to the August 6, 2004 Research Review Report. The SAB will post the draft report on “The Evaluation of NOAA's Response to the Research Review Report”, for public comment on September 7, 2005. The Science Advisory Board is seeking public comment from all interested parties. This draft report is being issued for comment only and is not intended for interim use. Suggested changes will be incorporated, where appropriate, in the final report being submitted to the NOAA Administrator.

NOAA asked the SAB to appoint an external panel to review progress in implementing recommendations from the Research Review Report. On August 16 and 17, a five person review panel met in Silver Spring, Maryland, to evaluate the progress made. This panel is tasked with evaluating the NOAA response to the August 2004 report's findings and recommendations. The panel is also tasked with providing additional recommendations to the Administrator to improve the efficiency and effectiveness of the NOAA research organization. This review panel will be disbanded once its final report to the NOAA Science Advisory Board is issued.

The draft report will be posted on the SAB Web site on September 7, 2005 for public comment. Public comments may be submitted for 30 days, from September 7, 2005 to October 7, 2005.

NOAA welcomes all comments on the content of the report. We request comments on any inconsistencies perceived within the report, and possible omissions of important topics or issues. For any shortcoming noted within the draft report, please propose specific remedies.

The public is encouraged to submit comments electronically to research.review@noaa.gov.

Please follow these instructions for preparing and submitting comments. Using the format guidance described below will facilitate the processing of reviewer comments and assure that all comments are appropriately considered. Please provide background information about yourself on the first page of your comments: your name(s), organization(s), area(s) of expertise, mailing address(es), telephone and fax numbers, email address(es). Overview comments should follow your background information and should be numbered. Comments that are specific to particular pages, paragraphs, or lines should follow any overview comments and should identify the page numbers to which they apply. Please number all pages (on the upper right hand of each page) and print identifying information at the top of each page. Comments may also be submitted in writing to: NOAA Research, Science Advisory Board (SAB), c/o Ms. M. Whitcomb, Silver Spring Metro Center Bldg 3 Room 11419, 1315 East-West Highway, Silver Spring, Maryland 20910.

Dated: August 31, 2005.
Louisa Koch,
Deputy Assistant Administrator, Office of Oceanic and Atmospheric Research, National Oceanic and Atmospheric Administration.

[FR Doc. 05-17654 Filed 9-6-05; 8:45 am]

BILLING CODE 3510-KD-P